DEPARTMENT OF THE TREASURY

Office of Foreign Assets Control

31 CFR Part 528

Publication of International Criminal Court-Related Sanctions Regulations Web General License 1

AGENCY: Office of Foreign Assets Control, Treasury.

ACTION: Publication of a web general license.

SUMMARY: The Department of the Treasury's Office of Foreign Assets Control (OFAC) is publishing a general license (GL) issued pursuant to the International Criminal Court-Related Sanctions Regulations: GL 1.

DATES: GL 1 was issued on June 5, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov.

Background

On June 5, 2025, OFAC issued GL 1 to authorize certain transactions otherwise prohibited by Executive Order 14203 of February 6, 2025 (90 FR 9369, “Imposing Sanctions on the International Criminal Court”). This GL was made available on OFAC's website (https://ofac.treasury.gov) when it was issued. The GL expired on July 8, 2025. On July 1, 2025, OFAC incorporated the prohibitions of E.O. 14203 into the International Criminal Court-Related Sanctions Regulations, 31 CFR part 528. The text of this GL is provided below.

OFFICE OF FOREIGN ASSETS CONTROL

Executive Order 14203 of February 6, 2025; Imposing Sanctions on the International Criminal Court

GENERAL LICENSE NO. 1

Authorizing the Wind Down of Transactions Involving Certain Persons Blocked on June 5, 2025

(a) Except as provided in paragraph (b) of this general license, all transactions prohibited by Executive Order (E.O.) 14203 that are ordinarily incident and necessary to the wind down of any transaction involving one or more of the following blocked persons are authorized through 12:01 a.m. eastern daylight time, July 8, 2025, provided that any payment to a blocked person is made into a blocked interest-bearing account located in the United States:

(1) Solomy Balungi Bossa;

(2) Luz Del Carmen Ibanez Carranza;

(3) Reine Adelaide Sophie Alapini Gansou;

(4) Beti Hohler; or

(5) Any entity in which one or more of the above persons own, directly or indirectly, individually or in the aggregate, a 50 percent or greater interest.

(b) This general license does not authorize any transactions otherwise prohibited by E.O. 14203, including transactions involving any person blocked pursuant to E.O. 14203 other than the blocked persons described in paragraph (a) of this general license, unless separately authorized.

Lisa M. Palluconi,

Acting Director, Office of Foreign Assets Control.

Dated: June 5, 2025.

Bradley T. Smith,
Director, Office of Foreign Assets Control.

[FR Doc. 2025-15350 Filed 8-12-25; 8:45 am]

BILLING CODE 4810-AL-P